DEPARTMENT OF HEALTH AND HUMAN SERVICES

Administration for Children and Families

Submission for OMB Review; Comment Request

Title: Supporting Healthy Marriage Project Focus Group.

OMB No.: New Collection.

Description: The Administration for Children and Families (ACF), U.S. Department of Health and Human Services (HHS), is conducting a demonstration and evaluation called the Supporting Health Marriage (SHM) Project. The project is a large-scale, multi-site, multi-year, rigorous test of marriage education programs for interested low-income married couples and is based on a substantial body of research that has shown a relationship between healthy marriages and a variety of positive child and family outcomes. The SHM Project is designed to inform program operators and policymakers of the most effective ways to help couples who voluntarily choose to participate in demonstrations designed to strengthen and maintain healthy marriages. The focus groups will provide key information about the perspectives of low-to-moderate-income couples regarding marriage, relationships, and marriage education programs; assist ACF and program managers in designing responsive healthy marriage programs; and will help to ensure that the project is testing the strongest possible program models for its target populations.

Respondents: The respondents will be selected to represent low-to-moderate income couples in each of the following categories, whose views can help us to design effective SHM programs: Married couples and those planning to marry, couples with and without children, and couples who have had experience with marriage education programs as well as those who have not. There will also be an effort to include African American and Hispanic couples. Focus groups may be divided into separate discussions for those who are married and for those who are planning to marry. They may also be further separated into discussions for couples, for men only, and for women only.

Each focus group will have approximately 10 respondents for a total of 180 respondents over 2 years.

Annual Burden Estimates
Instrument | Number of respondents | Number of responses per respondent | Average burden hours per response | Total burden hours
Mixed Gender Focus Group Protocol | 30 | 1 | 3 | 90
Men's Focus Group Protocol | 30 | 1 | 3 | 90
Women's Focus Group Protocol | 30 | 1 | 3 | 90
Estimated Total Annual Burden Hours | 90 | 1 | 3 | 270

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer in ACF, E-mail address: Katherine_T._Astrich@omb.eop.gov.

Dated: April 15, 2005.
Robert Sargis,
Reports Clearance Officer.

[FR Doc. 05-8051 Filed 4-21-05; 8:45 am]

BILLING CODE 4184-01-M